DEPARTMENT OF COMMERCE

National Institute of Standards and Technology

Work Group on Measuring Systems for Electric Vehicle Fueling

AGENCY: National Institute of Standards and Technology, Commerce.

ACTION: Notice.

SUMMARY: The National Institute of Standards and Technology (NIST) is forming a Work Group (WG) to develop proposed requirements for commercial electricity-measuring devices (including those used in sub-metering electricity at residential and business locations and those used to measure and sell electricity dispensed as a vehicle fuel) and to ensure that the prescribed methodologies and standards facilitate measurements that are traceable to the International System of Units (SI). This work is not intended to address utility metering in the home or business where the electricity metered is consumed by the end purchaser.

DATES: A preliminary web-based meeting or teleconference will be held on Wednesday, August 29, 2012, from 1:00 p.m. to 3:00 p.m. Eastern time. This meeting is intended to be a precursor to any subsequent face-to-face meeting and will serve to provide further information and orientation regarding the objectives of the WG. To register for this preliminary meeting, please submit your full name, email address, and phone number to Mr. Marc Buttler by Friday, August 24, 2012, using the contact information provided below.

ADDRESSES: The preliminary meeting will be held using either a teleconference or a web-based format where participants will join the meeting remotely by telephone and/or computer. Once registered, participants will receive login and/or call-in instructions via email.

FOR FURTHER INFORMATION CONTACT: Mr. Marc Buttler, NIST, Office of Weights and Measures, 100 Bureau Drive, Stop 2600, Gaithersburg, MD 20899-2600. You may also contact Mr. Buttler by telephone (301) 975-4615 or by email at marc.buttler@nist.gov.

SUPPLEMENTARY INFORMATION: The formation of this WG is intended to bring together government officials and representatives of business, industry, trade associations, and consumer organizations on the subject of standards and test procedures used in the testing of commercial measuring devices and systems by regulatory officials and service companies. NIST participates to promote uniformity among the states in laws, regulations, methods, and testing equipment that comprises the regulatory control of commercial weighing and measuring devices and systems and other trade and commerce issues.

The WG will review and propose changes as needed to draft method-of-sale requirements for: (1) Possible inclusion in NIST Handbook 130, “Uniform Laws and Regulations in the Areas of Legal Metrology and Engine Fuel Quality”; (2) draft requirements for equipment used to measure and sell electricity in commercial applications for possible inclusion in NIST Handbook 44, “Specifications, Tolerances, and Other Technical Requirements for Weighing and Measuring Devices”; and (3) proposed procedures for type evaluation, laboratory, and field testing of equipment for possible inclusion in NIST Examination Procedure Outlines and other procedures documents.

The changes proposed to NIST Handbooks 44 and 130 will be put forward through the submission process outlined in the “Introduction” sections of these Handbooks.

Included among the topics to be discussed by the WG for current and emerging device technologies used in commercial electric measuring systems are: (1) Method-of-sale requirements; (2) metrology laboratory standards and test procedures; (3) uncertainties; (4) measurement traceability; (5) tolerances and other technical requirements for commercial measuring systems; (6) existing standards for testing equipment; (7) field implementation; (8) data analysis; (9) field test and type evaluation procedures; (10) field enforcement issues; (11) training at all levels; and (12) other relevant issues identified by the WG. The WG's technical output may result in the revision of current standards or the development of new standards for testing equipment, including documents such as the NIST Handbook 105 Series for field standards; NIST HB 44, and NIST Examination Procedure Outlines, as well as proposed changes to requirements and testing procedures for commercial devices and systems used to assess charges to consumers for electric vehicle fuel.

There is no cost for participating in the Work Group. No proprietary information will be shared as part of the Work Group, and all research results will be in the public domain.

Dated: August 1, 2012.
Willie E. May,
Associate Director for Laboratory Programs.

[FR Doc. 2012-19285 Filed 8-6-12; 8:45 am]

BILLING CODE 3510-13-P